SOCIAL SECURITY ADMINISTRATION

Agency Information Collection Activities: Proposed Request and Comment Request

The Social Security Administration (SSA) publishes a list of information collection packages requiring clearance by the Office of Management and Budget (OMB) in compliance with Public Law (Pub. L.) 104-13, the Paperwork Reduction Act of 1995, effective October 1, 1995. This notice includes revisions of OMB-approved information collections.

SSA is soliciting comments on the accuracy of the agency's burden estimate; the need for the information; its practical utility; ways to enhance its quality, utility, and clarity; and ways to minimize burden on respondents, including the use of automated collection techniques or other forms of information technology. Mail, e-mail, or fax your comments and recommendations on the information collection(s) to the OMB Desk Officer and SSA Reports Clearance Officer to the following addresses or fax numbers.

(OMB), Office of Management and Budget, Attn: Desk Officer for SSA, Fax: 202-395-6974, E-mail address: OIRA_Submission@omb.eop.gov.

(SSA), Social Security Administration, DCBFM, Attn: Reports Clearance Officer, 1333 Annex Building, 6401 Security Blvd., Baltimore, MD 21235, Fax: 410-965-6400, E-mail address: OPLM.RCO@ssa.gov.

I. The information collections below are pending at SSA. SSA will submit them to OMB within 60 days from the date of this notice. To be sure we consider your comments, we must receive them no later than October 1, 2010. Individuals can obtain copies of the collection instruments by calling the SSA Reports Clearance Officer at 410-965-8783 or by writing to the above e-mail address.

1. Request for Corrections of Earnings Record—20 CFR 404.820 and 20 CFR 422.125—0960-0029. Individuals alleging inaccurate earnings records that SSA maintains for them use Form SSA-7008 to provide the information SSA needs to check earnings posted, and as necessary, initiate development to resolve any inaccuracies. The respondents are individuals who request correction of earnings posted to their Social Security earnings record.

Type of Request: Revision of an OMB-approved information collection.

Method of collection | Number of respondents | Frequency of response | Estimated burden per response (minutes) | Estimated annual burden (hours)
Paper form | 37,500 | 1 | 10 | 6,250
In-person or telephone interview | 337,500 | 1 | 10 | 56,250
Total | 375,000 |  |  | 62,500

2. Missing and Discrepant Wage Reports Letter and Questionnaire—26 CFR 31.6051-2—0960-0432. Each year employers report the wage amounts they paid their employees to the Internal Revenue Service (IRS) for tax purposes, and separately to SSA for retirement and disability coverage purposes. These reported amounts should equal each other. However, each year some employer wage reports SSA receives are less than the wage amounts employers report to the IRS. SSA uses Forms SSA-L93-SM, SSA-L94-SM, SSA-95-SM, and SSA-97-SM to ensure employees receive full credit for their wages. Respondents are employers who reported lower wage amounts to SSA than they reported to the IRS.

Type of Request: Revision of an OMB-approved information collection.

Number of Respondents: 360,000.

Frequency of Response: 1.

Average Burden per Response: 30 minutes.

Estimated Annual Burden: 180,000 hours.

3. Appointment of Representative—20 CFR 404.1707, 4041720, 404.1725, 410.684 and 416.1507—0960-0527. Persons claiming benefits under the Social Security Act must notify SSA in writing when they appoint an individual to represent them in dealings with SSA. SSA collects the information on Form SSA-1696-U4 to verify the appointment of such representatives. The SSA-1696-U4 also allows SSA to inform representatives of items affecting the recipient's claim and allows claimants to give permission to their appointed representatives to designate a person to copy claims files. Respondents are applicants/recipients of Social Security benefits or Supplemental Security Income (SSI) payments who are notifying SSA they have appointed a person to represent them in their dealings with SSA.

Type of Request: Revision of an OMB-approved information collection.

Number of Respondents: 551,520.

Frequency of Response: 1.

Average Burden per Response: 10 minutes.

Estimated Annual Burden: 91,920 hours.

4. Appeal of Determination for Help with Medicare Prescription Drug Plan Costs—0960-0695. Public Law 108-173, the Medicare Prescription Drug, Improvement, and Modernization Act of 2003 (MMA) established the Medicare Part D program for voluntary prescription drug coverage for certain low-income individuals. The MMA stipulates subsidies must be available for individuals who are eligible for the program and who meet eligibility criteria for help with premium, deductible, and/or co-payment costs. Form SSA-1021, Appeal of Determination for Help with Medicare Prescription Drug Plan Costs, obtains information from individuals who appeal SSA's decisions regarding eligibility or continuing eligibility for a Medicare Part D subsidy. The respondents are applicants who are appealing SSA's eligibility or continuing eligibility decisions.

Type of Request: Revision of an OMB-approved information collection.

Number of Respondents: 75,000.

Frequency of Response: 1.

Average Burden per Response: 10 minutes.

Estimated Annual Burden: 12,500 hours.

5. Consent Based Social Security Number Verification Process—20 CFR 400.100—0960-0760. The Consent-Based Social Security Number (SSN) Verification (CBSV) process is a fee-based automated SSN verification service available to private businesses and other requesting parties. To use the system, private businesses and requesting parties must register with SSA and obtain valid consent from the SSN number holders prior to verification. We collect the information to verify if the submitted name and SSN match the information contained in SSA records. After completing a registration process and paying the fee, the requesting party can use the CBSV Internet application to submit a file containing names of number holders who have given valid consent, along with each number holder's accompanying SSN and date of birth (if available), or obtain real-time results using a web service application or SSA's Business Services Online application. SSA matches the information against the SSA master file of SSNs, using SSN, name, date of birth and gender code (if available). The requesting party retrieves the results file from SSA; the results file indicates only a match or no match for each SSN submitted.

Under the CBSV process, the requesting party does not submit the consent forms of the number holders to SSA. SSA requires each requesting party to retain a valid consent form for each SSN verification request. The requesting party retains the consent forms in either electronic or paper format.

To ensure the integrity of the CBSV process, SSA added a strong audit component that requires audits (called “compliance reviews”) at the discretion of the agency with all audit costs borne by the requesting party. Independent certified public accountants (CPA) conduct these reviews to ensure compliance with all the terms and conditions of the party's agreement with SSA, including a review of the consent forms. CPAs conduct the review at the requesting party's place of business to ensure the integrity of the process. In addition, SSA reserves the right to perform unannounced onsite inspections of the entire process, including review of the technical systems that maintain the data and transaction records. The respondents to the CBSV collection are the participating companies, members of the public who consent to the SSN verification, and CPAs who provide compliance review services.

Type of Request: Revision of an OMB-approved information collection.

Time Burden

Participating Companies

Requirement | Number of respondents | Frequency of response | Average burden per response (minutes) | Estimated annual burden (hours)
Registration Process | 115 | 1 | 120 | 230
Creation of file with SSN holder identification data; maintaining required documentation/forms | 115 | *251 | 60 | 28,865
Using the system to upload request file, check status, and download results file | 115 | 251 | 5 | 2,405
Storing consent forms | 115 | 251 | 60 | 28,865
Activities related to compliance review | 115 | 251 | 60 | 28,865
Total |  |  |  | 89,230
* Please note: There are 251 Federal business days per year on which a requesting party could submit a file.

People whose SSNs SSA Will Verify:

Requirement | Number of respondents | Frequency of response | Average burden per response (minutes) | Estimated annual burden (hours)
Reading and signing authorization for SSA to release SSN verification | 986,585 | 1 | 3 | 49,329
Responding to CPA re-contact | 4,750 | 1 | 5 | 479
Total |  |  |  | 49,808

CPAs (conducting compliance reviews and preparing written report of findings):

Number of Respondents: 115.

Frequency of Response: 1.

Average Burden per Response: 4,800.

Estimated Annual Burden: 9,200 hours.

Total Collective Burden: 577,408.

Cost Burden

The public burden cost is dependent upon the number of companies and transactions. SSA based the cost estimates below upon 115 participating companies submitting 986,585 transactions. The total cost for developing the system was $5.6 million. SSA has already expended $3.0 million that we will recoup over the depreciable life of the system based on the fee-per-transaction model.

One-Time per Company Registration Fee—$5,000.

Estimated per SSN Transaction Fee—$5.¹

¹ The annual costs associated with the transaction to each company are dependent upon the number of SSN transactions submitted to SSA by the company on a yearly basis. For example, if a company anticipates submitting one million requests to SSA for the year, its total transaction cost for the year would be $5 × 1,000,000 or $5,000,000. Periodically, SSA will calculate its costs to provide CBSV services and adjust the fee charged. SSA will notify companies in writing of any change and companies will have the opportunity to cancel the agreement or continue service using the new transaction fee.

Estimated per Company Cost to Build Web Service—$200,000.²

² A company may choose to submit batch files via the SSA Web site or submit real-time individual requests via the SSA Web site. There is no public burden cost with either of these methods using the CBSV system.

Estimated per Company Cost to Store Consent Forms—$300.

Estimated per Company Cost To Contract with CPA for Audit—$8,000.

II. SSA has submitted the information collections listed below to OMB for clearance. Your comments on the information collections would be most useful if OMB and SSA receive them within 30 days from the date of this publication. To be sure we consider your comments, we must receive them no later than September 1, 2010. You can obtain a copy of the OMB clearance packages by calling the SSA Reports Clearance Officer at 410-965-8783 or by writing to the above e-mail address.

1. Request to be Selected as a Payee—20 CFR 404.2010-404.2055, 416.601-416.665—0960-0014. An individual applying to be a representative payee for a Social Security or SSI recipient completes Form SSA-11-BK. SSA obtains information from applicant payees regarding their relationship to the beneficiary; personal qualifications; their concern for the beneficiary's well-being; and their intended use of benefits if appointed as payee. The respondents are individuals, private sector businesses and institutions, and state and local government institutions and agencies.

Type of Request: Revision of an OMB-approved information collection.

Individuals/Households (90%):

Collection method | Number of respondents | Frequency of response | Average burden per response | Total annual burden
Representative Payee System (RPS) | 135,000 | 1 | 10.5 | 23,625
RPS/Signature Proxy | 765,000 | 1 | 9.5 | 121,125
Paper Version | 450,000 | 1 | 10.5 | 78,750
Totals | 1,350,000 |  |  | 223,500

Private Sector (9%):

Collection method | Number of respondents | Frequency of response | Average burden per response | Total annual burden
RPS | 13,500 | 1 | 10.5 | 2,363
RPS/Signature Proxy | 76,500 | 1 | 9.5 | 12,113
Paper Version | 45,000 | 1 | 10.5 | 7,875
Totals | 135,000 |  |  | 22,351

State/Local/Tribal Government (1%):

Collection method | Number of respondents | Frequency of response | Average burden per response | Total annual burden
RPS | 1,500 | 1 | 10.5 | 263
RPS/Signature Proxy | 8,500 | 1 | 9.5 | 1,346
Paper Version | 5,000 | 1 | 10.5 | 875
Totals | 15,000 |  |  | 2,484
Grand total | 1,500,000 |  |  | 248,335

2. Representative Payee Evaluation Report—20 CFR 404.2065 & 416.665—0960-0069. Sections 205(j) and 1631(a)(2) of the Social Security Act state that SSA may appoint a representative payee to receive Title II benefits and/or Title XVI payments on behalf of individuals unable to manage or direct the management of those funds themselves. SSA requires the appointed representative payees to report once per year on how they used or conserved those funds. When a representative payee fails to report adequately to SSA as required, SSA conducts a face-to-face interview with the payee and completes Form SSA-624, Representative Payee Evaluation Report, to determine the continued suitability of the representative payee to serve as a payee. The respondents are individuals or organizations serving as representative payees for individuals receiving Title II benefits and/or Title XVI payments who fail to comply with SSA's statutory annual reporting requirement.

Type of Request: Revision of an OMB-approved information collection.

Number of Respondents: 266,000.

Frequency of Response: 1.

Average Burden per Response: 30 minutes.

Estimated Annual Burden: 133,000 hours.

3. Waiver of Your Right to Personal Appearance before an Administrative Law Judge—20 CFR 404.948(b)(l)(i) and 416.1448(b)(l)(i)—0960-0284. Applicants for Social Security benefits and SSI payments have the statutory right to appear in person (or through a representative) and present evidence about their claims at a hearing before an administrative law judge (ALJ). If claimants wish to waive this right to appear before an ALJ, they must complete a written request. The applicants may use SSA Form HA-4608 for this purpose. The ALJ uses the information to document an individual's claim to show that an oral hearing is not preferred in the appellate process. Respondents are claimants or their representatives for Title II benefits and/or Title XVI payments who request to waive their right to appear in person before an ALJ.

Type of Request: Revision of an approved-OMB information collection.

Number of Respondents: 12,000.

Frequency of Response: 1.

Average Burden per Response: 2 minutes.

Estimated Annual Burden: 400 hours.

4. Request for Change in Time/Place of Disability Hearing—20 CFR 404.914(c)(2) and 416.1414(c)(2)—0960-0348. At the request of claimants or their representatives, SSA schedules evidentiary hearings at the reconsideration level for claimants of Title II benefits and/or Title XVI payments when we deny their claims for disability. When claimants or their representatives find they are unable to attend the scheduled hearing, they complete Form SSA-769 to request a change in time or place of the hearing. SSA uses the information as a basis for granting or denying requests for changes and for rescheduling disability hearings. Respondents are claimants or their representatives who wish to request a change in the time and/or place of their hearing.

Type of Request: Revision of an OMB-approved information collection.

Number of Respondents: 7,483.

Frequency of Response: 1.

Average Burden per Response: 8 minutes.

Estimated Annual Burden: 998 hours.

5. Agency/Employer Government Pension Offset Questionnaire—20 CFR 404.408(a)—0960-0470. When an individual is concurrently receiving Social Security spousal or surviving spousal benefits and a government pension, the individual may have the amount of Social Security benefits reduced by the government pension amount. We call this the Government Pension Offset (GPO). SSA uses Form SSA-L4163 to collect accurate pension information from the Federal or state government agency paying the pension for purposes of applying the pension-offset provision. We only use the form when: (1) The claimant does not have the information; and (2) the pension-paying agency has not cooperated with the claimant. Respondents are state government agencies that have information SSA needs to determine if the GPO applies and/or the amount of offset.

Type of Request: Revision of an OMB-approved information collection.

Number of Respondents: 1,000.

Frequency of Response: 1.

Average Burden per Response: 3 minutes.

Estimated Annual Burden: 50 hours.

6. Child Care Dropout Questionnaire—20 CFR 404.211(e)(4)—0960-0474. The Social Security Act and SSA's regulations permit the exclusion, from a disability computation period, of the years an individual was caring for his or her (or the spouse's) child under age 3 if he or she had no earnings in the benefit computation years. We call this the child-care dropout exclusion. SSA uses Form SSA-4162 to determine if an individual qualifies for this exclusion. Respondents are applicants for Title II disability benefits.

Type of Request: Revision of an OMB-approved information collection.

Number of Respondents: 2,000.

Frequency of Response: 1.

Average Burden per Response: 5 minutes.

Estimated Annual Burden: 167 hours.

7. Function Report—Child: Birth to 1st Birthday (SSA-3375), Age 1 to 3rd Birthday (SSA 3376), Age 3 to 6th Birthday (SSA-3377), Age 6 to 12th Birthday (SSA-3378), and Age 12 to 18th Birthday (SSA-3379)—20 CFR 416.912—0960-0542. Forms SSA-3375-BK through SSA-3379-BK request information from the child's parent about the child's day-to-day functioning. The five different versions of the form contain questions about functioning appropriate to a particular age group; thus, respondents use only one version for each child.

The adjudicative team (disability examiners and medical/psychological consultants) of state Disability Determination Services offices collect the information on the appropriate version of this form (in conjunction with medical and other evidence) to form a complete picture of the children's ability to function and their impairment-related limitations. The adjudicative team uses the completed profile to determine whether each child's impairment(s) results in marked and severe functional limitations and whether each child is disabled. The respondents are parents and/or guardians of child applicants for SSI payments.

Type of Request: Extension of an OMB-approved information collection.

Number of Respondents: 500,000.

Frequency of Response: 1.

Average Burden per Response: 20 minutes.

Estimated Annual Burden: 166,667 hours.

8. Registration for Appointed Representative Services and Direct Payment—0960-0732. SSA uses Form SSA-1699 to register appointed representatives of claimants before SSA who:

• Want to register for direct payment of fees;

• Registered for direct payment of fees prior to 10/31/09, but need to update their information;

• Registered as appointed representatives on or after 10/31/09, but need to update their information; and/or

• Received a notice from SSA instructing them to complete this form.

By registering these individuals, SSA: (1) Authenticates and authorizes them to do business with us; (2) allows them access to our records for the claimants they represent; (3) facilitates direct payment of authorized fees to appointed representatives; and (4) collects the information we will need to meet IRS requirements to issue specific IRS forms if we pay these representatives in excess of a specific amount ($600).

In February 2010, we received emergency clearance for a new, simplified version of this form. We are now seeking full clearance for this simplified version. The respondents are appointed representatives who want to use Form SSA-1699 for any of the purposes cited in this notice.

Type of Request: Extension of an OMB-approved information collection.

Number of Respondents: 52,800.

Frequency of Response: 1.

Average Burden Per Response: 20 minutes.

Estimated Annual Burden: 17,600 hours.

9. Government-to-Government Services Online Web site Registration; Government-to-Government Services Online Web site Account Modification/Deletion Form—20 CFR 401.45—0960-0757. The Government-to-Government Services Online (GSO) Web site allows various external organizations to submit files to a variety of SSA systems and, in some cases, receive return files. The users include state/local government agencies, other Federal agencies, and some private sector business entities. The SSA systems that process data transferred via GSO include, but are not limited to, systems responsible for disability processing and benefit determination or termination. A sponsor within SSA who knows the requestor completes the registration form, SSA-118, and submits the information to SSA's User Interface Team (UIT). SSA uses the information on Form SSA-118 (GSO Web site Registration Form) to maintain the identity of the requestor within GSO. Once this is completed, SSA provides the requestor with the new password and conducts a walkthrough of the GSO Web site as necessary. The organization can also modify its online account (e.g., address change) by completing Form SSA-119 (GSO Web site Account Modification/Deletion Form).

Note: This is a correction notice. SSA published this information with the incorrect form name on May 13, 2010 at 75 FRN 27036. We are correcting this error here.

Also, Form SSA-118 is now Form SSA-159, and Form SSA-119 is now Form SSA-160.

Type of Request: Revision of an OMB-approved information collection.

Collection instrument | Number of respondents | Frequency of response | Average burden per response (minutes) | Estimated annual burden (hours)
SSA-159 | 925 | 1 | 15 | 231
SSA-160 | 2,500 | 1 | 15 | 625
Totals | 3,425 |  |  | 856

10. Technical Updates to Applicability of the Supplemental Security Income (SSI) Reduced Benefit Rate for Individuals Residing in Medical Treatment Facilities—20 CFR 416.708(k)—0960-0758. Section 1611(e)(1)(A) of the Social Security Act states no resident of a public institution is eligible for SSI payments. However, Sections 1611(e)(1)(B) and (G) list certain exceptions to this provision that make it necessary for SSA to collect information about any SSI recipient who enters or leaves a medical treatment facility, or other public or private institution. SSA's regulation 20 CFR 416.708(k) establishes the reporting guidelines that implement this legislative requirement. SSA collects the information to determine eligibility for SSI and the payment amount. The respondents are SSI recipients who enter or leave an institution.

Note: This is a correction notice: SSA published the incorrect CFR number for this collection at 75 FR 27036, on 5/13/10. We are correcting this error here.

Type of Request: Revision of an OMB-approved information collection.

Number of Respondents: 34,200.

Frequency of Response: 1.

Average Burden per Response: 7 minutes.

Estimated Annual Burden: 3,990 hours.

11. Statement for Certificate of Election for Reduced Widow(er)'s and Surviving Divorced Spouse's Benefits—20 CFR 404.335—0960-0759. Section 202(q) of the Social Security Act provides the authority to reduce benefits under certain conditions when a Title II beneficiary elects to do so. However, reduced benefits are not payable to an already entitled spouse (or divorced spouse) who:

• Is at least age 62 and under full retirement age in the month of the number holder's death; and,

• Is receiving reduced spouse's (or divorced spouse's) benefits, and either retirement or disability benefits in the month before the month of the number holder's death.

To elect reduced widow(er) benefits, a recipient completes Form SSA-4111. SSA collects the information on Form SSA-4111 to pay a qualified dually entitled widow(er) (or surviving divorced spouse) who elects to receive a reduced widow(er) benefit. The respondents are qualified dually entitled widow(er)s (or surviving divorced spouse) who elect to receive a reduced widow(er) benefit.

Type of Request: Extension of an OMB-approved information collection.

Number of Respondents: 24,000.

Frequency of Response: 1.

Average Burden per Response: 15 minutes.

Estimated Annual Burden: 6,000 hours.

12. Questionnaire about Special Veterans Benefits—0960-NEW. SSA will use the information collected on the SSA-2010 to determine continuing eligibility for Social Security Special Veterans Benefits (SVB), and to determine how much (if any) of a foreign pension we may use to reduce or increase the amount of Social Security SVB. The respondents will complete the SSA-2010 biannually so SSA can determine if we should increase, decrease, suspend, or terminate benefits based on the data we collect. The respondents are beneficiaries receiving Social Security SVB.

Type of Request: Request for a new information collection.

Number of Respondents: 2,500.

Frequency of Response: 1.

Average Burden per Response: 20 minutes.

Estimated Annual Burden: 833 hours.

Dated: July 28, 2010.
Faye Lipsky,
Reports Clearance Officer, Center for Reports Clearance, Social Security Administration.

[FR Doc. 2010-18854 Filed 7-30-10; 8:45 am]

BILLING CODE 4191-02-P